DEPARTMENT OF TRANSPORTATION

Federal Railroad Administration

Notice of Application for Approval of Railroad Safety Program Plans and Product Safety Plans

In accordance with Part 236 of Title 49 Code of Federal Regulations and 49 U.S.C. 20502(a), this document provides the public notice that by documents dated March 31, 2014, the railroads listed below have petitioned the Federal Railroad Administration (FRA) for approval of their Railroad Safety Program Plans (RSPP) and Product Safety Plans (PSP) for the Railsoft TrackAccess system. FRA assigned the petitions the following docket numbers:

• Kettle Falls International Railway: FRA-2014-0049.

• Georgia & Florida Railway: FRA-2014-0050.

• Nebraska, Kansas & Colorado Railway: FRA-2014-0052.

• Panhandle Northern Railroad: FRA-2014-0053.

• Illinois Railway: FRA-2014-0051.

TrackAccess is a processor-based dispatch system developed for operation in autonomous mode (without dispatcher intervention) for low-density rail lines. The system provides a processor-based methodology of requesting and issuing track authority to either qualified train crewmembers or roadway workers. It does so while increasing railroad productivity and significantly improving the safety of train operations, roadway workers, and other railway equipment.

FRA is providing public notice that the railroads' RSPPs and related documents have been placed in the dockets listed above and are available for public inspection. FRA is not accepting public comment on the RSPP documents; notice regarding these documents is provided for information only.

FRA is accepting comments on the PSPs for each railroad, which are posted in the dockets listed above for public inspection. The railroads assert that their RSPPs and PSPs contain the same information and analysis as the Alabama & Tennessee River Railway's (ATN) RSPP Revision 1, dated February 16, 2009, and the ATN PSP Revision 1, dated March 15, 2012. The ATN RSPP Revision 1 and the ATN PSP Revision 1 were previously approved by FRA on January 28, 2014 (Docket FRA-2013-0088).

The PSPs provide descriptions of the TrackAccess system. The railroads state that in the case of ATN, FRA found that the PSP demonstrates that TrackAccess was designed in a highly safe manner and was sufficiently tested to verify that fact. FRA approved the use of TrackAccess in autonomous mode for ATN. The railroads assert that since their RSPPs and PSPs contain the same programmatic and technical information as the FRA-approved ATN RSPP Revision 1 and PSP Revision 1, including autonomous TrackAccess operations, these railroads should also be allowed to use TrackAccess in an autonomous mode.

Copies of the petitions, as well as any written communications concerning the petitions, are available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by August 14, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on June 20, 2014.
Ron Hynes,
Director, Office of Safety Assurance and Compliance.

[FR Doc. 2014-15232 Filed 6-27-14; 8:45 am]

BILLING CODE 4910-06-P